DEPARTMENT OF ENERGY

Federal Energy Regulatory Commission

[Docket Nos. ER10-1401-000; ER11-2256-000; ER11-3149-000; ER11-3856-000; ER11-4580-000; ER12-50-000]

California Independent System, Operator Corporation; Notice of FERC Staff Attendance

The Federal Energy Regulatory Commission (Commission) hereby gives notice that on the following dates members of its staff will participate in teleconferences and meetings to be conducted by the California Independent System Operator (CAISO). The agenda and other documents for the teleconferences and meetings are available on the CAISO's Web site, www.caiso.com.

November 30, 2011 | Market Monitoring Quarterly Performance Review.
December 1, 2011 | Transmission Planning and Generator Interconnection.
| Working Group Meeting.
| Market Update.
December 5, 2011 | Flexible Ramping Product.
December 6, 2011 | FERC Order 741 Compliance.
December 7, 2011 | Market Performance and Planning Forum.
| Settlements and Market Clearing User Group.
| Congestion Revenue Rights.
December 8, 2011 | Market Surveillance Committee.
| 2011/2012 Transmission Planning Process.
December 13, 2011 | Frequency Response Study Report.
December 14, 2011 | Settlements and Market Clearing User Group.
| Congestion Revenue Rights.
December 15, 2011 | Board of Governors Meeting and Audit Committee.
| Market Update.
December 16, 2011 | Board of Governors Meeting and Audit Committee.

Sponsored by the CAISO, the teleconferences and meetings are open to all market participants, and staff's attendance is part of the Commission's ongoing outreach efforts. The teleconferences and meetings may discuss matters at issue in the above captioned dockets.

FOR FURTHER INFORMATION CONTACT: Saeed Farrokhpay at saeed.farrokhpay@ferc.gov; (916) 294-0322 or Maury Kruth at maury.kruth@ferc.gov, (916) 294-0275.

Dated: November 29, 2011.
Kimberly D. Bose,
Secretary.

[FR Doc. 2011-31170 Filed 12-5-11; 8:45 am]

BILLING CODE 6717-01-P